DEPARTMENT OF COMMERCE

National Oceanic and Atmospheric Administration

RIN 0648-XB205

Fishing Capacity Reduction Program for the Southeast Alaska Purse Seine Salmon Fishery

AGENCY: National Marine Fisheries Service (NMFS), National Oceanic and Atmospheric Administration (NOAA), Commerce.

ACTION: Notice of eligible voters; public meetings.

SUMMARY: NMFS issues this notice to inform persons of their eligibility to vote in the fishing capacity reduction program referendum for the Southeast Alaska Purse Seine Salmon Fishery. NMFS will hold a series of public meetings with Southeast Alaska purse seine salmon permit holders and interested individuals.

DATES: Comments must be submitted on or before 5 p.m. EST March 16, 2012. The meetings will be held between March 5 and March 7, 2012. For specific times, please see the Public Meetings heading in the SUPPLEMENTARY INFORMATION section.

ADDRESSES: The meetings will be held in Seattle, WA, Petersburg, AK, Ketchikan, AK, and Sitka, AK. For specific locations, please see Public Meetings heading in the SUPPLEMENTARY INFORMATION section. Send comments about this notice to Paul Marx, Chief, Financial Services Division, NMFS, Attn: SE Alaska Purse Seine Salmon Buyback, 1315 East-West Highway, Silver Spring, MD 20910 (see FOR FURTHER INFORMATION CONTACT).

FOR FURTHER INFORMATION CONTACT: Michael A. Sturtevant at (301) 427-8799, fax (301) 713-1306, or michael.a.sturtevant@noaa.gov.

SUPPLEMENTARY INFORMATION:

I. Background

The Southeast Alaska purse seine salmon fishery is a commercial fishery in Alaska state waters and adjacent Federal waters. It encompasses the commercial taking of salmon with purse seine gear, and participation is limited to fishermen designated by the Alaska Commercial Fisheries Entry Commission (CFEC).

NMFS published proposed program regulations on May 23, 2011 (76 FR 29707), and final program regulations on October 6, 2011 (76 FR 61986), to implement the reduction program. Interested persons should review these for further program details. The final regulations require NMFS to publish this notice before conducting a referendum to determine the industry's willingness to repay a fishing capacity reduction loan to purchase the permits identified in the reduction plan. Subsequently, the Southeast Revitalization Association submitted a capacity reduction plan to NMFS and NMFS approved the plan.

As of February 24, 2012, there are 379 permits in the fishery designated as S01A by CFEC. These permanent permit holders are eligible to vote in the referendum. Comments may address: (1) Persons who appear on the below list but should not; (2) persons who do not appear on the list but should; (3) persons whose names and/or business mailing addresses are incorrect; and (4) any other pertinent matter. NMFS will update the list, as necessary, immediately before mailing referendum ballots. Mailed ballots will be accompanied by NMFS' detailed voting guidance.

II. Public Meetings

NMFS will hold a series of public informational meetings with Southeast Alaska purse seine salmon permit holders and interested individuals. The first will be Monday, March 5, 2012, from 10 a.m. to 12 p.m. The meeting will be held in Seattle, WA, at the Nordby Conference Center at Fishermen's Terminal (3919 18th Avenue West). The second will be Tuesday, March 6, 2012, from 12 p.m. to 2 p.m. The meeting will be held in Petersburg, AK, at the City Council Chambers (Municipal Building, No. 12 South Nordic Drive). The third will be Wednesday, March 7, 2012, from 10 a.m. to 12 p.m. The meeting will be held in Ketchikan, AK, at the Ted Ferry Civic Center (888 Venetia Avenue). The fourth meeting will be Wednesday, March 7, 2012, from 7 p.m. to 9 p.m. The meeting will be held in Sitka, AK, at the Northern Southeast Regional Aquaculture Association (1308 Sawmill Creek Road). Comments and questions regarding any aspect of the fishing capacity reduction program are welcome.

Special Accommodations

These meetings are physically accessible to people with disabilities. Requests for sign language interpretation or other auxiliary aids should be directed to Michael A. Sturtevant (see ADDRESSES), at least 5 working days prior to the meeting date.

The following list of eligible voters was provided by CFEC on February 24, 2012, and follows below:

| Permit holder name | Permit serial No. | Address | City | State | Zip
1 | BEAUDIN DAVID L | 55603 | BOX 983 | BELLINGHAM | WA | 98227
2 | OLNEY VIRGINIA | 57720 | BOX 2456 | SITKA | AK | 99835
3 | NUGENT MATTHEW J | 55689 | 31605 NE 123RD ST | DUVALL | WA | 98019
4 | NUGENT MARK J | 60509 | BOX 5382 | KETCHIKAN | AK | 99901
5 | MENTEN ERIK K | 57726 | BOX 506 | TENAKEE | AK | 99841
6 | SOLNIT RUTH P | 58109 | 3401 W LAWTON ST | SEATTLE | WA | 98199
7 | MICHAEL MERCURY A | 55386 | 14580 MADISON AVE NE | BAINBRIDGE ISLAND | WA | 98110
8 | JACKLET ALAN C | 58062 | 4521 325TH AVE NE | CARNATION | WA | 98014
9 | MARRESE ANDREW B2 | 57909 | 2442 NW MARKET ST PMB #411 | SEATTLE | WA | 98107
10 | MARRESE ANDREW B2 | 58486 | 2442 NW MARKET ST PMB #411 | SEATTLE | WA | 98107
11 | LINDEMUTH LONNIE M | 57282 | BOX 2069 | SNOHOMISH | WA | 98291
12 | HUESTIS STEPHEN B | 61590 | 12704 471ST AVE SE | NORTH BEND | WA | 98045
13 | PAWLAK THOMAS R | 57669 | 435 LAWRENCE ST | PORT TOWNSEND | WA | 98368
14 | GEORGE RICHARD D | 57062 | 515 N FOREST | BELLINGHAM | WA | 98225
15 | BACON JAMES E | 58921 | 1410 TONGASS AVE | KETCHIKAN | AK | 99901
16 | JONES KENNETH M | 57345 | BOX 1044 | HOMER | AK | 99603
17 | FRANKLIN C. DAVID | 59066 | 3401 W LAWTON ST | SEATTLE | WA | 98199
18 | CORNWELL CHRIS | 55501 | 4220 CRYSTAL SPRINGS DR | BAINBRIDGE ISLAND | WA | 98110
19 | DOBRYDNIA RANDALL | 59224 | 69 W MATTLE RD #N | KETCHIKAN | AK | 99901
20 | LAUKITIS MICHAEL | 63826 | 59065 MEADOW LN | HOMER | AK | 99603
21 | FINNEY PAUL G | 64933 | 1588 HILLSIDE PL | HOMER | AK | 99603
22 | VAUGHAN JAMES | 58807 | BOX 770 | CRAIG | AK | 99921
23 | TREINEN CHARLES W | 60055 | 2054 ARLINGTON DR | ANCHORAGE | AK | 99517
24 | SIMPSON BRIAN | 59362 | 3104 PLYMOUTH DR | BELLINGHAM | WA | 98107
25 | BROADHEAD WILLIAM T | 59507 | BOX 221 | WILSON | WY | 83014
26 | GIAMBRONE MATTHEW | 57070 | 124 W GEORGE ST | SAINT PAUL | MN | 55107
27 | MARSH KIRT O | 60058 | BOX 1421 | PETERSBURG | AK | 99833
28 | JENSEN DOUGLAS R | 59714 | BOX 92535 | ANCHORAGE | AK | 99509
29 | GOLDEN JEFFREY J | 59571 | 8322 SILVER LAKE RD | MAPLE FALLS | WA | 98266
30 | YOUNG MARK N | 58490 | BOX 2016 | SITKA | AK | 99835
31 | VELER WILLIAM | 58051 | BOX 387 | HOONAH | AK | 99829
32 | DENKINGER TROY | 59031 | 2221 HALIBUT POINT RD | SITKA | AK | 99835
33 | ROCHELEAU RICK B | 58478 | BOX 631 | SITKA | AK | 99835
34 | PHIPPEN KENNETH S | 57895 | 312 TILSON ST | SITKA | AK | 99835
35 | FANNING CHRISTINE | 60909 | 1116 SLIM WILLIAMS WAY | JUNEAU | AK | 99801
36 | KITTAMS ANDREW W | 55341 | BOX 1544 | PETERSBURG | AK | 99833
37 | SCUDDER BRADFORD C | 56000 | 266 S MOBLEY LN | BOISE | ID | 83712
38 | MANOS THOMAS G | 60642 | BOX 749 | GIRDWOOD | AK | 99587
39 | BLAIR ANDREW R | 59085 | BOX 108 | FOX ISLAND | WA | 98333
40 | WAMSER WILLIAM G | 60071 | 2245 CR 306 | PARACHUTE | CO | 81635
41 | JONES DAVID C | 59142 | BOX 64 | WINTHROP | WA | 98862
42 | GIERARD BRIAN M | 58386 | BOX 7343 | KETCHIKAN | AK | 99901
43 | LEESE WILLIAM O | 56794 | 530 VIEW RIDGE DR | EVERETT | WA | 98203
44 | MONSAAS BARRETT A | 57025 | 2618 NW 204TH | SHORELINE | WA | 98177
45 | KYLE JAMES J | 55813 | 4102 LINNELL RD | DEMING | WA | 98244
46 | LINDBLOM RICHARD L | 56144 | 2971 TILLICUM BEACH DR | CAMANO ISLAND | WA | 98282
47 | CURRY CLYDE | 55389 | BOX 572 | PETERSBURG | AK | 99833
48 | THURSTON DONALD A | 56147 | 9224 LOHRER LN NE | OLYMPIA | WA | 98516
49 | VEITEHANS GREGORY K | 57703 | 302 GARDEN CLUB RD | NORDLAND | WA | 98358
50 | DEMMERT LAWRENCE EJ | 57796 | 16136 41ST AVE NE | LAKE FOREST PARK | WA | 98155
51 | ONEIL PATRICK | 55388 | 349 RAVEN HILL RD | LOPEZ | WA | 98261
52 | ALFIERI MICHAEL J | 59221 | 2273 66TH AVE SE | MERCER ISLAND | WA | 98040
53 | PATRICK KEVIN C | 56423 | 2888 S 355TH ST | FEDERAL WAY | WA | 98003
54 | NASH PAUL C | 57907 | BOX 1761 | FRIDAY HARBOR | WA | 98250
55 | GRIN JEFFREY P | 56621 | BOX 397 | WRANGELL | AK | 99929
56 | HANSON BRET | 56915 | 2916 ST CLAIR ST | BELLINGHAM | WA | 98226
57 | SORENSEN DAVID E | 55233 | 510 OLMSTEAD LN SW | OLYMPIA | WA | 98512
58 | BARKHOEFER TY | 56496 | 413 ARROWHEAD ST | SITKA | AK | 99835
59 | MANDICH VIC | 61404 | 520 SUNSET DR | HOQUIAM | WA | 98550
60 | WYMAN SETH K | 59640 | 5024 ROBINWOOD LN | BOW | WA | 98232
61 | JERKOVICH MARC E | 56607 | 3710 HARBORVIEW DR | GIG HARBOR | WA | 98332
62 | DOBSZINSKY LEIF | 56403 | 932 MADISON ST | PORT TOWNSEND | WA | 98368
63 | CHRISTENSEN DALE R | 60803 | 18912 88TH AVE W | EDMONDS | WA | 98026
64 | DONTOS LARRY A | 59708 | 2334 FAIRWAY LN | OAK HARBOR | WA | 98277
65 | PEELER ALFRED W | 60605 | BOX 761 | PETERSBURG | AK | 99833
66 | BILL DAVID E | 58338 | 3042 CENTER RD | LOPEZ | WA | 98261
67 | JOLIBOIS TIMOTHY L | 56018 | 3725 N 24TH ST | TACOMA | WA | 98407
68 | CONNOR WILLIAM HJ | 61566 | BOX 1124 | PETERSBURG | AK | 99833
69 | TROKA PAUL J | 59203 | 8602 SOBEK LN | CONCRETE | WA | 98237
70 | WEYNANDS MICHAEL | 55723 | 12759 EAGLE DR | BURLINGTON | WA | 98233
71 | BABICH MICHAEL | 60873 | 13510 GOODNOUGH DR NW | GIG HARBOR | WA | 98332
72 | GLENOVICH ROBERT P | 59601 | 480 S STATE ST #102 | BELLINGHAM | WA | 98225
73 | BURKE ARNOLD | 58318 | 1541 MADISON AVE | BLAINE | WA | 98230
74 | MUSTAPPA FRANK M | 58836 | 1517 HARRIS AVE | BELLINGHAM | WA | 98225
75 | MARKUSEN KENNETH L | 55584 | 9728 N HARVEY RD | BLAINE | WA | 98230
76 | EINARSON ED | 56252 | 9311 VALLEY VIEW RD | BLAINE | WA | 98230
77 | GOOD STEVEN E | 60710 | BOX 85540 | SEATTLE | WA | 98145
78 | TARABOCHIA DOMINICK JJ | 56600 | 8021 SHIRLEY AVE | GIG HARBOR | WA | 98332
79 | MARICICH TIMOTHY R | 59569 | 13680 DONNELL RD | ANACORTES | WA | 98221
80 | MANN BRUCE A | 56187 | 816 S 216TH ST #424 | SEATTLE | WA | 98198
81 | PETERSON CHRISTOPHER C | 61414 | BOX 3982 | KETCHUM | ID | 83340
82 | PETERSON STEVE E | 55395 | 109 RIBELIN RD | CHEHALIS | WA | 98532
83 | CHENEY SCOTT W | 61619 | 8 LOOKOUT MOUNTAIN LN | BELLINGHAM | WA | 98229
84 | EDGAR ALLEN M | 63230 | BOX 427 | WESTPORT | WA | 98595
85 | KOETJE JEFFREY A | 58557 | 18180 DUNBAR RD | MOUNT VERNON | WA | 98273
86 | HANSON JEFF W | 57976 | 5639 WHITEHORN WAY | BLAINE | WA | 98230
87 | JOHNSON RONALD C | 61616 | BOX 2232 | WRANGELL | AK | 99929
88 | CHRISTENSEN DAVID B | 57498 | 7302 164TH PL SW | EDMONDS | WA | 98026
89 | PURATICH ROBERT J | 59736 | BOX 1223 | GIG HARBOR | WA | 98335
90 | LOVROVICH TOM A | 58510 | 9705 JACOBSEN LN | GIG HARBOR | WA | 98332
91 | OKSVOLD OLE A | 58105 | 2601 NW 86TH | SEATTLE | WA | 98117
92 | BURRILL PAUL W | 58044 | 1664 2ND ST | DOUGLAS | AK | 99824
93 | PEELER JUSTIN | 56148 | BOX 1482 | PETERSBURG | AK | 99833
94 | HANSEN WILLIAM R | 55442 | 7602 76TH AVE SW | LAKEWOOD | WA | 98498
95 | MARBLE DALE H | 59248 | 478 DE HARO LN | FRIDAY HARBOR | WA | 98250
96 | COLE RALPH W | 56327 | 14084 MADRONA DR | ANACORTES | WA | 98221
97 | UTTLEY ROSS H | 65483 | 2201 5TH ST | EVERETT | WA | 98201
98 | ZUANICH SHIRLEY | 57288 | 812 W CONNECTICUT ST | BELLINGHAM | WA | 98225
99 | BABICH RANDALL P | 55657 | BOX 429 | LAKEBAY | WA | 98349
100 | JOHNSON HANS A | 57756 | BOX 2742 | TELLURIDE | CO | 81435
101 | FILE SCOTT | 55392 | 4515 TRAFALGAR | JUNEAU | AK | 99801
102 | FILE MICHAEL A | 58928 | BOX 1666 | PETERSBURG | AK | 99833
103 | PURATICH JOSEPH M | 55385 | BOX 272 | GIG HARBOR | WA | 98335
104 | ERICKSON JEFF | 55396 | BOX 53 | PETERSBURG | AK | 99833
105 | KAPP RYAN | 58391 | 955 COLONY CT | BELLINGHAM | WA | 98229
106 | PATRICK KELLAN | 57194 | 2888 S 355TH ST | FEDERAL WAY | WA | 98003
107 | WALLACE BRUCE H | 55827 | 410 CALHOUN AVE | JUNEAU | AK | 99801
108 | BARRETT DAVIS C | 58501 | BOX 842 | PORT TOWNSEND | WA | 98368
109 | ZUANICH JAMES P | 58102 | 812 W CONNECTICUT ST | BELLINGHAM | WA | 98225
110 | BRISCOE JIM | 56245 | 1714 WILSON AVE | BELLINGHAM | WA | 98225
111 | BEZMALINOVIC IVO R | 59235 | 1916 PIKE PL #1255 | SEATTLE | WA | 98101
112 | FRANULOVICH ANTHONY G | 56785 | 1302 N AVE | ANACORTES | WA | 98221
113 | JENSEN ERIC D | 56143 | 17403 COLONY RD | BOW | WA | 98232
114 | GENTHER CURT | 55457 | 3214 LILY LAKE RD | BOW | WA | 98232
115 | ROOD RICHARD C | 55955 | BOX 3466 | LYNNWOOD | WA | 98046
116 | GOSPODINOVIC DENNIS | 61548 | 5087 ZANDER DR | BELLINGHAM | WA | 98226
117 | PIECUCH CHARLES R | 56077 | 4737 4TH AVE NE | SEATTLE | WA | 98105
118 | THORSTENSON GINA | 58048 | 829 GOLDBELT AVE | JUNEAU | AK | 99801
119 | GRANBERG KEVIN M | 59394 | BOX 2002 | PETERSBURG | AK | 99833
120 | MARKUSEN JEFF | 58500 | 9653 RONALD DR | BLAINE | WA | 98230
121 | BOTSFORD WALLACE E | 63175 | 721 15TH ST | BELLINGHAM | WA | 98225
122 | SPEARIN JAMES K | 59372 | BOX 1019 | HOMER | AK | 99603
123 | NELSON STANLEY J | 56278 | 24 SHOREWOOD DR | BELLINGHAM | WA | 98225
124 | CHRISTENSEN STEVE W | 60180 | 6302 VISTA DR | FERNDALE | WA | 98248
125 | BUATTE DOUGLAS C | 61174 | 201 PARK RIDGE | BELLINGHAM | WA | 98225
126 | GLENOVICH JAMES A | 58476 | 818 17TH ST | BELLINGHAM | WA | 98225
127 | HALDANE R D | 56620 | 4611 SUNNYSIDE AVE N | SEATTLE | WA | 98103
128 | HOLMSTROM MICHAEL G | 58862 | 17952 MCLEAN RD | MOUNT VERNON | WA | 98273
129 | MOLLER RICHARD D | 64994 | BOX 1081 | GIG HARBOR | WA | 98332
130 | JENSEN BRAD A | 56400 | 813 52ND | PORT TOWNSEND | WA | 98368
131 | DOBSZINSKY MARK | 60416 | 17002 12TH AVE SW | NORMANDY PARK | WA | 98166
132 | CHANEY DOUGLAS W | 57153 | 11719 MADERA DR SW | LAKEWOOD | WA | 98499
133 | WALTZ JAMES T | 57898 | 1418 191ST DR SE | SNOHOMISH | WA | 98290
134 | SCHONBERG JULIA E | 56193 | BOX 877 | PETERSBURG | AK | 99833
135 | BABICH NICK AJ | 55452 | 13310 PURDY DR NW | GIG HARBOR | WA | 98332
136 | BABICH ANDREW P | 56801 | 8306 25TH AVE CT NW | GIG HARBOR | WA | 98332
137 | MALICH JOHN | 58564 | 7809 OLYMPIC VIEW DR | GIG HARBOR | WA | 98335
138 | STROOSMA SVEN | 58503 | 18273 W BIG LAKE BLVD | MOUNT VERNON | WA | 98274
139 | ANDERSON BENJAMIN | 59997 | 601 SW 189TH ST | SEATTLE | WA | 98166
140 | MCGEE GARY D | 56559 | 40 DRAYTON CT | BLAINE | WA | 98230
141 | FUGLVOG MILDRED | 60652 | 18204 CHAMPIONS DR | ARLINGTON | WA | 98223
142 | WARFEL FRANK LS | 55164 | BOX 517 | WRANGELL | AK | 99929
143 | BUSCHMANN RONN | 55479 | BOX 1367 | PETERSBURG | AK | 99833
144 | STEWART RANDY L | 56672 | 11374 WALKER RD | MOUNT VERNON | WA | 98273
145 | MOROVIC DARKO L | 58355 | BOX 756 | WESTPORT | WA | 98595
146 | DEGROEN JOHN | 58508 | 9810 SW 148TH ST | VASHON | WA | 98070
147 | LEITZKE GERALD W | 58593 | 12015 MARINE DR #239 | TULALIP | WA | 98271
148 | ANK ROBERT | 56299 | 19316 133RD PL SE | RENTON | WA | 98058
149 | JURLIN NICK J | 60158 | 133 THE PROMENADE N #317 | LONG BEACH | CA | 90802
150 | GRUENHEIT MICHAEL H | 55083 | 2605 E ST | BELLINGHAM | WA | 98225
151 | ROBERTS RALPH W | 60693 | BOX 1957 | PORT HARDY | BC | VON2PO
152 | MANOS ANDREW G | 59222 | 3014 EMORY ST | ANCHORAGE | AK | 99508
153 | BERITICH MITCHELL C | 58923 | 2128 N FRACE | TACOMA | WA | 98406
154 | KAPP DARRELL G | 55673 | 338 BAYSIDE RD | BELLINGHAM | WA | 98225
155 | MCILRAITH THOMAS J | 57080 | BOX 1198 | ORTING | WA | 98360
156 | VERRALL LARRY J | 57244 | 12364 RAINIER DR | BURLINGTON | WA | 98233
157 | CURRY JOHN HJ | 56854 | 9445 SUNRISE RD | BLAINE | WA | 98230
158 | MATSON PAUL H | 56976 | 1752 NW MARKET ST #800 | SEATTLE | WA | 98107
159 | HENRY RONALD R | 55833 | 2417 TONGASS AVE #111-141 | KETCHIKAN | AK | 99901
160 | SEABECK KEVIN J | 61447 | 8555 30TH NW | SEATTLE | WA | 98117
161 | SELIVANOFF DOUGLAS | 57856 | 3000 BIG MOUNTAIN RD | WHITEFISH | MT | 59937
162 | DOBSZINSKY KURT D | 58537 | 2023 E SIMS WAY #353 | PORT TOWNSEND | WA | 98368
163 | LUNDE JAN O | 56995 | 14202 BEVERLY PARK RD | EDMONDS | WA | 98026
164 | BOROVINA MICHAEL J | 57667 | 3616 COLBY #731 | EVERETT | WA | 98201
165 | BRISCOE ROBERT JJ | 56014 | BOX 10 | FERNDALE | WA | 98248
166 | ZUANICH MICHELLE M | 56881 | 6727 37TH AVE NW | SEATTLE | WA | 98117
167 | ZUANICH MICHELLE M | 57849 | 6727 37TH AVE NW | SEATTLE | WA | 98117
168 | KANDOLL BRIAN W | 59192 | BOX 1363 | PETERSBURG | AK | 99833
169 | LOVROVICH TIM | 61459 | 7021 120TH ST CT NW | GIG HARBOR | WA | 98332
170 | SORENSEN PAIGE | 58511 | 510 OLMSTEAD LN SW | OLYMPIA | WA | 98512
171 | JOHANSON NICHOLAS C | 56347 | 1900 W NICKERSON ST #213 | SEATTLE | WA | 98119
172 | MACNAB WILLIAM | 60177 | BOX 711 | PETERSBURG | AK | 99833
173 | DEMMERT BRENDA K | 60176 | 16136 41ST AVE NE | LAKE FOREST PARK | WA | 98155
174 | GILBERTSEN RICHARD E | 55317 | 722 OSTRANDER RD | KELSO | WA | 98626
175 | PIECUCH JUSTIN J | 60056 | 1923 NE LAURIE VIEW | POULSBO | WA | 98370
176 | TANAKA RICHARD D | 57716 | BOX 2345 | PORT HARDY | BC | VON2PO
177 | BAILEY KWIN | 60076 | BOX 1369 | PORT TOWNSEND | WA | 98368
178 | BERITICH GREGORY N | 56054 | 1810 23RD AVE CT SE | PUYALLUP | WA | 98374
179 | LEACH LAUCHLIN | 56330 | 2318 NE 105TH ST | SEATTLE | WA | 98125
180 | DEMMERT NICK | 56948 | 16136 41ST AVE NE | LAKE FOREST PARK | WA | 98155
181 | SMITH ALLEN M | 55435 | 3974 SALT SPRINGS DR | FERNDALE | WA | 98248
182 | JONES KENNETH G | 64527 | 4092 GINNETT RD | ANACORTES | WA | 98221
183 | MANOS WILLIAM J | 56564 | BOX 1365 | WARD COVE | AK | 99928
184 | MANOS STEVEN T | 56397 | 5224 NE VARCO RD | TACOMA | WA | 98422
185 | JERKOVICH NICK JJ | 56659 | 3710 HARBORVIEW DR | GIG HARBOR | WA | 98332
186 | LUNDQUIST LOREN D | 58350 | 723 SHELTER BAY DR | LACONNER | WA | 98257
187 | DEMMERT LONNIE EJ | 59987 | BOX 2683 | STANWOOD | WA | 98292
188 | DEMMERT STEVEN L | 59391 | 3814 SERENE WAY | LYNNWOOD | WA | 98087
189 | LOVROVICH GREGG | 60719 | 5310 72ND AVE NW | GIG HARBOR | WA | 98335
190 | JOHANSON JOHN M | 58267 | BOX 276 | KLAWOCK | AK | 99925
191 | MANNING EDWARD NJ | 57795 | 11170 RIDGERIM TRAIL SE | PORT ORCHARD | WA | 98367
192 | FRANKLIN KYLE | 58247 | BOX 62 | PETERSBURG | AK | 99833
193 | FLINN CHRIS P | 65398 | 927 15TH ST | BELLINGHAM | WA | 98225
194 | BERNTSEN JACK D | 57724 | BOX 98 | SAND POINT | AK | 99661
195 | SLAVEN GARY A | 60374 | BOX 205 | PETERSBURG | AK | 99833
196 | ESQUIRO GEORGE C | 60721 | BOX 1993 | PORT TOWNSEND | WA | 98368
197 | ESQUIRO IZAAK J | 60528 | BOX 984 | WARM SPRINGS | OR | 97761
198 | MCALLISTER THOMAS S | 56619 | BOX 23272 | JUNEAU | AK | 99802
199 | JW-PFUNDT MICHELE | 56392 | BOX 1162 | PETERSBURG | AK | 99833
200 | KRIGBAUM MICHAEL C | 58031 | BOX 564 | GRAYLAND | WA | 98547
201 | KRIEGER KENNETH J | 59613 | 36813 S WIND CREST DR | TUCSON | AZ | 85739
202 | BRUNSMAN JAMES P | 62650 | BOX 105 | DAYVILLE | OR | 97825
203 | ERTZBERGER ROCKY L | 56309 | 404 BARR RD | GRAYS RIVER | WA | 98621
204 | TODD ALYCE C | 56164 | 609 OJA ST | SITKA | AK | 99835
205 | SCHWANTES J.CARLOS | 58197 | BOX 2335 | SITKA | AK | 99835
206 | HANSEN KURT N | 55801 | 5266 35TH AVE NE | SEATTLE | WA | 98105
207 | NAGAMINE ROSS N | 58246 | 930 CARLANNA LAKE RD, #2-B | KETCHIKAN | AK | 99901
208 | GEIST RICHARD J | 56244 | 3401 W LAWTON ST | SEATTLE | WA | 98199
209 | WARTMAN BRIAN C | 57228 | 2144 NW 204TH | SEATTLE | WA | 98177
210 | OTNESS NELS K3 | 56304 | BOX 2058 | PETERSBURG | AK | 99833
211 | PETERMAN CHAD | 55986 | 178 KASNYKU LN | FRIDAY HARBOR | WA | 98250
212 | ALFIERI JOE P | 60791 | 1340 PLUM ST | SAN DIEGO | CA | 92106
213 | JURLIN MARIE | 58547 | 3312 45TH ST NW | GIG HARBOR | WA | 98335
214 | GROSS BEN | 58987 | 7362 W PARK HWY #696 | WASILLA | AK | 99654
215 | OLNEY-MILLER BAE | 57638 | 622 MERRILL ST | SITKA | AK | 99835
216 | OLNEY-MILLER NICK | 55730 | 3006 BARKER ST | SITKA | AK | 99835
217 | PYLE DAVID P | 60282 | 17423 SCHALIT WY | LAKE OSWEGO | OR | 97035
218 | SCHONBERG PETER R | 56601 | 75-816F HIONA ST | HOLUALOA | HI | 96725
219 | PETERMAN TIMOTHY C | 60508 | BOX 2336 | WRANGELL | AK | 99929
220 | BENKMAN BRYAN | 55659 | 10533 14TH AVE NW | SEATTLE | WA | 98177
221 | ALFIERI ANTHONY | 55646 | 1266 MOANA DR | SAN DIEGO | CA | 92107
222 | SVENSSON JOHN A | 56492 | BOX 2059 | KALAMA | WA | 98625
223 | MCFADYEN JEFFREY J | 55737 | BOX 592 | PETERSBURG | AK | 99833
224 | SCHONBERG MART T | 56882 | 465 RT 23 | CLAVERACK | NY | 12513
225 | LIDDICOAT JOHN | 59395 | 4115 BAKER AVE NW | SEATTLE | WA | 98107
226 | WADSWORTH RAY G | 56391 | 200 E MAIN ST | OAKLEY | ID | 83346
227 | PECKHAM JOHN P | 55481 | BOX 8394 | KETCHIKAN | AK | 99901
228 | THOMAS NYLE D | 57862 | BOX 1744 | PETERSBURG | AK | 99833
229 | WHITE JACOB S | 55660 | BOX 361 | HOONAH | AK | 99829
230 | JOHANSON RUDY M | 57681 | BOX 276 | KLAWOCK | AK | 99925
231 | SUYDAM ANTRIL C | 57910 | BOX 257 | MUKILTEO | WA | 98275
232 | SKEEK LEONARD C | 56853 | BOX 742 | PETERSBURG | AK | 99833
233 | HOFSTAD ALBERT J | 55939 | BOX 1030 | PETERSBURG | AK | 99833
234 | JOHANSON RUDOLPH K | 56161 | BOX 23359 | KETCHIKAN | AK | 99901
235 | MURPHY FRANCIS CJ | 55505 | BOX 1158 | WARD COVE | AK | 99928
236 | KOHLHASE ERNEST J | 56199 | BOX 240524 | DOUGLAS | AK | 99824
237 | GUTHRIE GLENN J | 57896 | BOX 686 | METLAKATLA | AK | 99926
238 | JAMES GEORGE SJ | 58513 | 1123 BLACK BEAR RD | KETCHIKAN | AK | 99901
239 | WAGNER WALTER H | 57905 | BOX 107 | METLAKATLA | AK | 99926
240 | ALEX WAYNE E | 56609 | BOX 20095 | JUNEAU | AK | 99802
241 | WILLS CHARLES M | 58070 | BOX 7554 | KETCHIKAN | AK | 99901
242 | HALTINER FRED EJ | 55617 | BOX 408 | PETERSBURG | AK | 99833
243 | REIFENSTUHL IVAN | 55171 | 218 SHOTGUN ALLEY | SITKA | AK | 99835
244 | PORTER RONALD F | 55937 | 630 CHATHAM AVE | KETCHIKAN | AK | 99901
245 | STEVENS GARY J | 60488 | BOX 1572 | WRANGELL | AK | 99929
246 | HALTINER ROBERT G | 56408 | BOX 808 | PETERSBURG | AK | 99833
247 | EIDE L R | 61632 | BOX 15 | PETERSBURG | AK | 99833
248 | LEEKLEY ROBERT J | 60299 | BOX 217 | PETERSBURG | AK | 99833
249 | KADAKE HENRICH BS | 57718 | BOX 188 | KAKE | AK | 99830
250 | CARLE ARLENE | 58580 | BOX 32 | HYDABURG | AK | 99922
251 | SKULTKA CHARLES GS | 63109 | BOX 665 | SITKA | AK | 99835
252 | WELLINGTON VICTOR CS | 57300 | BOX 69 | METLAKATLA | AK | 99926
253 | OTNESS ALAN D | 61440 | BOX 317 | PETERSBURG | AK | 99833
254 | KVERNVIK CAROLYN | 55231 | BOX 1081 | PETERSBURG | AK | 99833
255 | PETTICREW CHARLES JS | 60800 | BOX 971 | WRANGELL | AK | 99929
256 | WILLIAMS MARY A | 57721 | BOX 103 | KAKE | AK | 99830
257 | JOHNS JUSTNA D | 55403 | BOX 726 | CRAIG | AK | 99921
258 | MATHISEN SIGURD R | 56389 | BOX 1460 | PETERSBURG | AK | 99833
259 | REIMNITZ HARTMUT | 57899 | 23505 80TH AVE SW | VASHON | WA | 98070
260 | WRIGHT FRANK J | 55964 | BOX 497 | HOONAH | AK | 99829
261 | CARROLL GLEN O | 58248 | BOX 551 | HOMER | AK | 99603
262 | ROONEY ROBERT M | 55588 | BOX 2179 | WRANGELL | AK | 99929
263 | KALK DONALD B | 56399 | 3980 N DOUGLAS HWY | JUNEAU | AK | 99801
264 | CARLE MATTHEW JS | 56070 | BOX 32 | HYDABURG | AK | 99922
265 | SWANSON ROBERT L | 56940 | BOX 924 | PETERSBURG | AK | 99833
266 | MAGILL FREDERICK S | 55299 | BOX 1201 | SITKA | AK | 99835
267 | INGMAN ROGER L | 57529 | BOX 1155 | SITKA | AK | 99835
268 | SVENSON MIKE W | 56237 | 104 SHARON DR | SITKA | AK | 99835
269 | OLSON CHARLES R | 55989 | 3009 HALIBUT POINT RD | SITKA | AK | 99835
270 | GAMBLE GERALD M | 56099 | 3602 ENTRADA DR NE | OLYMPIA | WA | 98506
271 | MAJORS DANIEL AJ | 57950 | BOX 5358 | KETCHIKAN | AK | 99901
272 | DEMMERT ARTHUR JJ | 57741 | BOX 180 | KLAWOCK | AK | 99925
273 | MENISH WILLIAM R | 57940 | BOX 877 | PETERSBURG | AK | 99833
274 | VEERHUSEN DANIEL F | 56638 | BOX 971 | HOMER | AK | 99603
275 | MILLER JAMES L | 56708 | BOX 1184 | PETERSBURG | AK | 99833
276 | DEMMERT DAVID RJ | 56339 | 16116 68TH AVE W | EDMONDS | WA | 98026
277 | PETERMAN BRUCE | 59306 | 610 SHEEHY RD | NIPOMO | CA | 93444
278 | MACDONALD CLIFFORD | 55545 | BOX 575 | PETERSBURG | AK | 99833
279 | SWANSON JOHN R | 55928 | BOX 1546 | PETERSBURG | AK | 99833
280 | NELSON NORVAL EJ | 58899 | 1625 FRITZ COVE RD | JUNEAU | AK | 99801
281 | ROSVOLD ERIC O | 59035 | BOX 1144 | PETERSBURG | AK | 99833
282 | HAYWARD ROYCE L | 57901 | BOX 161 | METLAKATLA | AK | 99926
283 | MCCAY RODERICK D | 57722 | BOX 161 | PETERSBURG | AK | 99833
284 | OLSON JAMES R | 58999 | 80840 DUFUR VALLEY RD | DUFUR | OR | 97021
285 | HAYNES GARY L | 55828 | 625 SUNSET DR | KETCHIKAN | AK | 99901
286 | HAYNES DANNY J | 56454 | BOX 7036 | KETCHIKAN | AK | 99901
287 | SEVERSON MARK | 60655 | BOX 1502 | PETERSBURG | AK | 99833
288 | COCKRUM RUSSELL L | 61617 | 5791 N TONGASS HWY | KETCHIKAN | AK | 99901
289 | JENSEN JAMES C | 55903 | BOX 402 | PETERSBURG | AK | 99833
290 | SUYDAM LINDA | 58045 | BOX 987 | KODIAK | AK | 99615
291 | CHRISTENSEN CHARLES L | 56722 | BOX 824 | PETERSBURG | AK | 99833
292 | MATHISEN WAYNE T | 57991 | BOX 671 | PETERSBURG | AK | 99833
293 | DEMMERT ARCHIE W3 | 57270 | BOX 223 | KLAWOCK | AK | 99925
294 | ALBER NINA L | 56173 | BOX 111 | CORDOVA | AK | 99574
295 | MCLEAN JOHN S | 56270 | BOX 2191 | HOMER | AK | 99603
296 | BIERRIA ALBERT J | 58973 | 10418 BOCA CANYON DR | SANTA ANA | CA | 92705
297 | KAVANAUGH RONALD J | 55228 | 1533 SAWMILL CIR | KODIAK | AK | 99615
298 | CASTLE DANIEL F | 57678 | 4430 S TONGASS HWY | KETCHIKAN | AK | 99901
299 | SAVLAND STANLEY J | 60512 | 2413 KA SEE ANN DR | JUNEAU | AK | 99801
300 | EICHNER KEN | 56262 | 5166 SHORELINE DR N | KETCHIKAN | AK | 99901
301 | JACKSON JEFFREY S | 59496 | BOX 297 | KAKE | AK | 99830
302 | JOHNS LEROY E | 56434 | BOX 290 | CRAIG | AK | 99921
303 | EDENSHAW SIDNEY C | 55830 | BOX 352 | HYDABURG | AK | 99922
304 | DEMMERT KARL W | 57115 | BOX 556 | CRAIG | AK | 99921
305 | KADAKE DELBERT BJ | 57725 | BOX 554 | KAKE | AK | 99830
306 | MARVIN-DENKINGER VICTORIA | 58429 | 2221 HALIBUT POINT RD | SITKA | AK | 99835
307 | BLANDOV BRIAN JS | 57897 | BOX 436 | METLAKATLA | AK | 99926
308 | NEWMAN DONALD J | 58505 | 415 NW 120TH | SEATTLE | WA | 98177
309 | YOUNG LAWRENCE | 55663 | 224 MAKA HOU PL W | WAILUKU | HI | 96793
310 | ENLOE GLENDA | 58238 | 2609 HALIBUT POINT RD | SITKA | AK | 99835
311 | JOHNSON MOSES P | 55404 | 1413 HALIBUT POINT RD | SITKA | AK | 99835
312 | MARIFERN BRUCE E | 57277 | BOX 917 | PETERSBURG | AK | 99833
313 | TISSYCHY JAMES A | 56504 | 554 EAST ST | KETCHIKAN | AK | 99901
314 | ONEIL DENNIS J | 57990 | BOX 1083 | PETERSBURG | AK | 99833
315 | DAUGHERTY RICHARD M | 56729 | BOX 34864 | JUNEAU | AK | 99803
316 | EIDE MITCHEL | 55243 | BOX 981 | PETERSBURG | AK | 99833
317 | BARTELDS DALE A | 56507 | 301 WORTMAN LP | SITKA | AK | 99835
318 | RECORDS RONALD J2 | 57723 | BOX 307 | HYDABURG | AK | 99922
319 | ROSTAD PAUL D | 55338 | BOX 183 | KAKE | AK | 99830
320 | GREGG RANDAL J | 59331 | BOX 20373 | JUNEAU | AK | 99802
321 | HOWEY BRYAN | 57719 | BOX 506 | SITKA | AK | 99835
322 | WHITE VINCE H | 57717 | BOX 5454 | KETCHIKAN | AK | 99901
323 | EVENS CHRIS R | 57894 | BOX 886 | PETERSBURG | AK | 99833
324 | THOMASSEN JAY R | 60201 | BOX 836 | SEWARD | AK | 99664
325 | THORSTENSON PEDER | 59806 | 24121 SW NEWLAND RD | WILSONVILLE | OR | 97070
326 | BECKER ROBERT J | 56206 | BOX 240238 | DOUGLAS | AK | 99824
327 | JENSEN JEREMY C | 55611 | BOX 1688 | PETERSBURG | AK | 99833
328 | HALTINER DEAN R | 60762 | BOX 443 | PETERSBURG | AK | 99833
329 | THORSTENSON ROBERT MJ | 55582 | 410 CALHOUN AVE | JUNEAU | AK | 99801
330 | THORSTENSON ROBERT MJ | 55974 | 410 CALHOUN AVE | JUNEAU | AK | 99801
331 | PFUNDT ALEC | 57851 | BOX 1342 | PETERSBURG | AK | 99833
332 | PFUNDT BRYON | 58936 | BOX 1162 | PETERSBURG | AK | 99833
333 | THOMASSEN STEVEN HJ | 55967 | BOX 424 | WRANGELL | AK | 99929
334 | EVENS CRAIG J | 60558 | BOX 585 | PETERSBURG | AK | 99833
335 | CASTLE JAMES W | 56409 | 87 SHOUP ST | KETCHIKAN | AK | 99901
336 | NEBL NIKOULAS A | 60054 | 3828 EVERGREEN AVE | KETCHIKAN | AK | 99901
337 | RAMSEY JAMISON T | 63735 | BOX 9631 | KETCHIKAN | AK | 99901
338 | THYNES DEREK M | 56788 | BOX 1624 | PETERSBURG | AK | 99833
339 | CARROLL WESTON J | 56359 | 1170 QUEETS CIR | HOMER | AK | 99603
340 | NEVERS TODD | 61134 | 712 SIRSTAD ST | SITKA | AK | 99835
341 | MARSDEN DANIEL M | 58512 | BOX 15 | METLAKATLA | AK | 99926
342 | CARLE JOHN | 60110 | BOX 1 | HYDABURG | AK | 99922
343 | ETHELBAH HARLEY E | 55230 | BOX 972 | PETERSBURG | AK | 99833
344 | MCCOLLUM KENT | 57755 | BOX 2096 | PETERSBURG | AK | 99833
345 | CURRALL TIMOTHY H | 58507 | 540 WATER ST #101 | KETCHIKAN | AK | 99901
346 | GREGG DINA I | 58789 | BOX 20373 | JUNEAU | AK | 99802
347 | PENNEWELL RICHARD D | 57112 | 3224 89TH AVE E | EDGEWOOD | WA | 98371
348 | KOHLHASE JASON | 57333 | 10753 HORIZON DR | JUNEAU | AK | 99801
349 | BLANKENSHIP BRIAN V | 64176 | 4316 VALLHALLA DR | SITKA | AK | 99835
350 | BLANKENSHIP ERIC | 56922 | 2089 SAWMILL CREEK RD | SITKA | AK | 99835
351 | BLANKENSHIP JEFF S | 56268 | 1709 HALIBUT POINT RD #12 | SITKA | AK | 99835
352 | EVENS ERIC | 55898 | BOX 1412 | PETERSBURG | AK | 99833
353 | THOMASSEN TROY R | 55489 | BOX 152 | PETERSBURG | AK | 99833
354 | GREEN KIRBY B | 57925 | 418 HIGHLAND DR #3 | SEATTLE | WA | 98109
355 | VERSTEEG KORY | 56296 | BOX 1752 | PETERSBURG | AK | 99833
356 | WARFEL FRANK W | 56371 | BOX 1512 | WRANGELL | AK | 99929
357 | BLANKENSHIP PAUL V | 56055 | 3208 HALIBUT POINT RD #23 | SITKA | AK | 99835
358 | CISNEY JOE A | 64528 | BOX 582 | PETERSBURG | AK | 99833
359 | CROME DANIEL J | 62606 | BOX 1243 | PETERSBURG | AK | 99833
360 | BARRY JOHN W | 63280 | 3944 N COTTONWOOD PL | BUCKEYE | AZ | 85396
361 | BARRY DAVID | 61551 | BOX 6276 | SITKA | AK | 99835
362 | BARRY DAVID | 61628 | BOX 6276 | SITKA | AK | 99835
363 | NILSEN YANCEY L | 55523 | BOX 1822 | PETERSBURG | AK | 99833
364 | BALOVICH FRANK L | 58602 | BOX 1503 | SITKA | AK | 99835
365 | HAYNES BRADLEY S | 57495 | BOX 1152 | WARD COVE | AK | 99928
366 | HAYNES BRADLEY S | 60572 | BOX 1152 | WARD COVE | AK | 99928
367 | MILLER AARON L | 60175 | BOX 2144 | PETERSBURG | AK | 99833
368 | BRIGHT JARED | 60484 | BOX 2097 | PETERSBURG | AK | 99833
369 | MARTENS COLLIN B | 55367 | BOX 1123 | PETERSBURG | AK | 99833
370 | JOHNSON JOSH | 57699 | 103 HORIZON WAY | SITKA | AK | 99835
371 | WHITETHORN LUKE J | 60267 | BOX 1716 | PETERSBURG | AK | 99833
372 | BUSCHMANN CHRISTIAN | 60001 | BOX 898 | PETERSBURG | AK | 99833
373 | MCCULLOUGH CHARLES | 60545 | BOX 707 | PETERSBURG | AK | 99833
374 | CRANE VERNON M | 61736 | 2300 BLACK SPRUCE CT | FAIRBANKS | AK | 99709
375 | HUDSON ERRON B | 57906 | BOX 737 | METLAKATLA | AK | 99926
376 | SCUDDER ANDREW C | 65418 | 266 S MOBLEY LN | BOISE | ID | 83712
377 | SCHILE GEORGE V | 60511 | 1807 4TH ST | BELLINGHAM | WA | 98225
378 | ALLBRETT JASPER | 56833 | BOX 2223 | SITKA | AK | 99835
379 | UNDERHILL JOHN E | 58297 | 103 KRESTOF DR | SITKA | AK | 99835

Dated: February 27, 2012.
Lindsay Fullenkamp,
Acting Director, Office of Management and Budget, National Marine Fisheries Service.

[FR Doc. 2012-4985 Filed 2-29-12; 8:45 am]

BILLING CODE 3510-22-P